DEPARTMENT OF COMMERCE

[Docket No. 151028999-5999-01]

Privacy Act of 1974; Amended System of Records

AGENCY: National Oceanic and Atmospheric Administration, U.S. Department of Commerce.

ACTION: Notice of Proposed Amendment to Privacy Act System of Records: COMMERCE/NOAA-1, Applicants for the NOAA Corps.

SUMMARY: This notice announces the Department of Commerce's (Department) proposal to amend the system of records entitled “COMMERCE/NOAA-1, Applicants for the NOAA Corps,” under the Privacy Act of 1974, as amended. The National Oceanic and Atmospheric Administration (NOAA) Commissioned Officer Corps (NOAA Corps) is the uniformed service of NOAA, a bureau of the Department of Commerce. The NOAA Corps provides a cadre of professionals trained in engineering, earth sciences, oceanography, meteorology, fisheries science, and other related disciplines who serve their country by supporting NOAA's mission of surveying the Earth's oceans, coasts, and atmosphere to ensure the economic and physical well-being of the Nation. This record system is necessary in order to identify both minimum eligibility and level of qualification of applicants for the NOAA Corps.

DATES: To be considered, written comments must be submitted on or before December 28, 2015. Unless comments are received, the amended system of records will become effective as proposed on the date of publication of a subsequent notice in the Federal Register.

ADDRESSES: Comments may be mailed to Director, NOAA Corps, 8403 Colesville Road, Suite 500, National Oceanic and Atmospheric Administration, Silver Spring, Maryland 20910.

SUPPLEMENTARY INFORMATION: Persons wishing to be considered for a NOAA Corps Commission must submit a complete application package, including NOAA Form 56-42, at least three letters of recommendation, NOAA Form 56-42A, and official transcripts. A personal interview must also be conducted. All persons shall meet the eligibility requirements prior to their appointments into the NOAA Corps. The requirements must include a bachelor's degree and at least 48 credit hours of science, engineering, or other disciplines related to NOAA's missions (including either calculus or physics), have satisfactorily passed the prescribed mental and physical evaluations in accordance with 33 U.S.C. 3021(a)(2)(A), 3021(a)(3); 10 U.S.C. 532(a)(4), and ability to complete 20 years of active duty commissioned service prior to their 62nd birthday.

COMMERCE/NOAA-1

System Name:

COMMERCE/NOAA-1, Applicants for the NOAA Corps.

Security Classification:

Moderate.

System Location:

Office of Marine and Aviation Operations, National Oceanic and Atmospheric Administration, 8403 Colesville Road, Suite 500, Silver Spring, Maryland 20910.

Categories of Individuals Covered by the System:

Applicants for appointment in the NOAA Corps and persons providing references.

Categories of Records in the System:

Name, date of birth, place of birth, country of citizenship (if U.S., how citizenship acquired), mailing address, physical address, telephone numbers, email addresses, social security number, selective service registration, educational information (names and locations of schools, graduation dates, areas of study, years attended, degrees) GPAs for undergraduate and graduate programs, courses (and credit hours) in progress or proposed prior to graduation, college transcripts, credit hours in applicable fields of study, work experience (name and location of company, position title, supervisor contact information, description of work, hours, salary and reason for leaving, whether employment is/was at a professional level), letters of reference, physical examinations, statements of prior military service (rejections, conscientious objector status, type of discharge, current obligations), recruiting officer's interview evaluation form, personal resumes, special qualifications and skills, and names of references.

Authority for Maintenance of the System:

The statutory authorities for this system of records are 33 U.S.C. Chapter 43, National Oceanic and Atmospheric Administration Commissioned Officer Corps and PL 112-166 Section 2. (gg)(1), Presidential Appointment Efficiency and Streamlining Act of 2011.

Purposes:

The NOAA Corps provides a cadre of professionals trained in engineering, earth sciences, oceanography, meteorology, fisheries science, and other related disciplines who support NOAA's mission of surveying the Earth's oceans, coasts, and atmosphere to ensure the economic and physical well-being of the Nation. This record system is necessary in order to identify both minimum eligibility and level of qualification of applicants for the NOAA Corps. The system is designed as follows: Application and reference information may be submitted on a year-round basis, but the primary periods of collection are typically immediately preceding summer and winter college graduations. Completed applications are examined by the NOAA Officer Personnel Board in order to rate and/or assess the level of qualification, suitability, and availability of candidates for appointment. NOAA Form 56-42 and NOAA Form 56-42A are now fully electronic, the result of efforts to reduce paperwork, clarify the collection process and improve the quality of applicant responses.

Routine Uses of Records Maintained in the System, Including Categories of Users and the Purposes of Such Uses:

In addition to those disclosures generally permitted under 5 U.S.C. 552a(b) of the Privacy Act, these records or information contained therein may specifically be disclosed outside the Department of Commerce (Department). The records or information contained therein may specifically be disclosed as a routine use as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records, may be referred to the appropriate agency, whether Federal, State, local, or foreign, charged with the responsibility of investigating or prosecuting such violation or charged with enforcing or implementing the statute or contract, rule, regulation, or order issued pursuant thereto, or protecting the interest of the Department.

2. A record from this system of records may be disclosed in the course of presenting evidence to a court, magistrate, hearing officer or administrative tribunal, including disclosures to opposing counsel in the course of settlement negotiations, administrative appeals and hearings.

3. A record in this system of records may be disclosed to a Member of Congress submitting a request involving an individual when the individual has requested assistance from the Member with respect to the subject matter of the record.

4. A record in this system of records may be disclosed to the Department of Justice in connection with determining whether the Freedom of Information Act (5 U.S.C. 552) requires disclosure thereof.

5. A record in this system of records may be disclosed to a contractor of the Department having need for the information in the performance of the contract but not operating a system of records within the meaning of 5 U.S.C. 552a(m).

6. A record from this system of records may be disclosed, as a routine use, to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

7. A record from this system of records may be disclosed, as a routine use, to a Federal, state, local, or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

8. A record in this system of records may be disclosed, as a routine use, to the Office of Management and Budget in connection with the review of private relief legislation as set forth in OMB Circular No. A-19 at any stage of the legislative coordination and clearance process as set forth in that Circular.

9. A record in this system may be transferred, as a routine use, to the Office of Personnel Management: For personnel research purposes; as a data source for management information; for the production of summary descriptive statistics and analytical studies in support of the function for which the records are collected and maintained; or for related manpower studies.

10. A record from this system of records may be disclosed, as a routine use, to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

11. A record in this system of records may be disclosed to appropriate agencies, entities and persons when: (1) It is suspected or determined that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and to prevent, minimize, or remedy such harm.

Disclosure to Consumer Reporting Agencies:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

Policies and Practices for Storing, Retrieving, Accessing, Retaining, and Disposing of Records in the System:

Storage:

Computerized data base; paper records in file folders in locked metal cabinets and/or locked rooms. Electronic records containing Privacy Act information are protected by a user identification/password. The database user identification/password is issued to individuals by authorized personnel.

Retrievability:

Records are organized and retrieved by the individual's name.

Safeguards:

The system of records is stored in a building with doors that are locked during and after business hours. Visitors to the facility must register and must be accompanied by Federal personnel at all times. Only those that have the need to know, to carry out the official duties of their job, have access to the information. Paper records are maintained in secured file cabinets in areas that are accessible only to authorized personnel of the Data Collection Agent. Electronic records containing Privacy Act information are protected by a user identification/password. The user identification/password is issued to individuals by authorized personnel. OMAO staff and contractors, to whom access to this information is granted in accordance with this system of records routine uses provision, are instructed on the confidential nature of this information.

All electronic information disseminated by NOAA adheres to the standards set out in Appendix III, Security of Automated Information Resources, OMB Circular A-130; the Computer Security Act (15 U.S.C. 278g-23 and 278g-4); and the Government Information Security Reform Act, Public Law 106-398, and follows NIST SP 800-18, Guide for Developing Security Plans for Federal Information Systems; NIST SP 800-26, Security Self-Assessment Guide for Information Technology Systems; and NIST SP 800-53, Recommended Security Controls for Federal Information Systems.

Retention and Disposal:

Records are destroyed after three years, if rejected, unless applicant indicates a desire for reconsideration. If selected and appointed to the NOAA Corps, the application becomes a permanent part of the officer's Official Personnel Folder.

System Manager and Address:

Director, NOAA Corps, National Oceanic and Atmospheric Administration, 8403 Colesville Road, Suite 500 Silver Spring, Maryland 20910.

Notification Procedure:

See NOAA Corps Directive, Chapter 6, Part 16107, Requests for Information.

Record Access Procedures:

See NOAA Corps Directive, Chapter 6, Part 16107, Requests for Information.

Contesting Record Procedures:

The Department's rules for access, for contesting contents, and appealing initial determinations by the individual concerned appear in 15 CFR part 4b. Use above address.

Record Source Categories:

Subject individuals, personal references, the NOAA Corps officer who recruited the individual, and those authorized by the individual to furnish information.

Exemptions Claimed for the System:

Pursuant to 5 U.S.C. 552a(k)(5) this system of records is exempted from the notice, access, and contest requirements (under 5 U.S.C. 552a(c)(3), (d), (e)(4)(G), (H), and (I), and (f)) of the agency regulations in order to fulfill commitments made to protect the confidentiality of sources, and to maintain access to sources of information which are necessary to determine an applicant's suitability for employment in the NOAA Corps.

Dated: November 19, 2015.
Michael J. Toland,
Department of Commerce, Freedom of Information and Privacy Act Officer.

[FR Doc. 2015-29987 Filed 11-24-15; 8:45 am]

BILLING CODE 3510-22-P